DEPARTMENT OF THE INTERIOR

Fish and Wildlife Service

Coastal Barrier Improvement Act of 1990; Amendments to the John H. Chafee Coastal Barrier Resources System

AGENCY: Fish and Wildlife Service, Interior.

ACTION: Notice.

SUMMARY: We, the U.S. Fish and Wildlife Service, have replaced one John H. Chafee Coastal Barrier Resources System map in Virginia, as directed by Congress. We are using this notice to inform the public about the distribution and availability of the replacement map.

DATES: The replacement map became effective on February 20, 2003.

FOR FURTHER INFORMATION CONTACT: Dr. Benjamin N. Tuggle, Department of the Interior, U.S. Fish and Wildlife Service, Division of Federal Program Activities, (703) 358-2161.

SUPPLEMENTARY INFORMATION:

Background

In 1982, Congress passed the Coastal Barrier Resources Act (Pub. L. 97-348) to restrict Federal spending on undeveloped coastal barriers along the Atlantic and Gulf of Mexico coasts. In the Coastal Barrier Improvement Act of 1990 (Pub. L. 101-591), Congress amended the 1982 Act to broaden the definition of a coastal barrier, and approved a series of maps entitled “John H. Chafee Coastal Barrier Resources System” dated October 24, 1990. These maps identify and depict those coastal barriers located on the coasts of the Atlantic Ocean, Gulf of Mexico, Great Lakes, Virgin Islands, and Puerto Rico that are subject to the Federal funding limitations outlined in the Act.

The Act also defines our responsibilities regarding the System maps. We have official custody of these maps and prepare and distribute copies. In the Federal Register on June 6, 1991 (56 FR 26304), we published a notice of the filing, distribution, and availability of the maps entitled “John H. Chafee Coastal Barrier Resources System” dated October 24, 1990. We have announced all subsequent map revisions in the Federal Register.

Revisions to the John H. Chafee Coastal Barrier Resources System in Virginia

Division F, Title I, Section 155 of Public Law 108-7, enacted on February 20, 2003, replaced the map relating to Plum Island Unit VA-59P and Long Creek Unit VA-60/VA-60P in Poquoson and Hampton, Virginia, with a revised map titled “John H. Chafee Coastal Barrier Resources System, Plum Tree Island Unit VA-59P, Long Creek Unit VA-60/VA-60P.” The changes to the map ensure that the boundary of VA-60P follows lands protected by the City of Hampton.

How To Get Copies of the Maps

The Service has given a copy of the replacement map to the House of Representatives (House) Committee on Resources, the House Committee on Banking and Financial Services, the Senate Committee on Environment and Public Works, and each appropriate Federal, State, or local agency with jurisdiction over the areas.

You can purchase copies of System maps from the U.S. Geological Survey, Earth Science Information Center, PO Box 25286, Mail Stop 517, Denver, Colorado 80225. The cost is $10.00 per map, plus a $5.00 shipping and handling fee for the entire order. Maps can also be viewed at the following Service offices:

Washington Office—all System maps

U.S. Fish and Wildlife Service, Division of Federal Program Activities, 4401 N. Fairfax Drive, Room 400, Arlington, Virginia 22203, (703) 358-2183.

Northeast Regional Office—all System maps for ME, CT, MA, RI, NY, NJ, DE, MD, VA

Region 5, U.S. Fish and Wildlife Service, 300 Westgate Center Drive, Hadley, Massachusetts 01035-9589, (413) 253-8200.

Field Office—System maps for Virginia

Field Supervisor, U.S. Fish and Wildlife Service, 6669 Short Lane, Gloucester, Virginia 23061, (804) 693-6694.

Dated: June 2, 2003.
Marshall P. Jones, Jr.,
Acting Director, U.S. Fish and Wildlife Service.
(Notice: Coastal Barrier Improvement Act of 1990; Amendments to the John H. Chafee Coastal Barrier Resources System)

[FR Doc. 03-16153 Filed 6-25-03; 8:45 am]

BILLING CODE 4310-55-P